DEPARTMENT OF ENERGY

Federal Energy Regulatory Commission

[Docket No. CP00-419-000]

Texas-Ohio Pipeline, Inc.; Notice of Application

August 2, 2000.

Take notice that on July 27, 2000, Texas-Ohio Pipeline, Inc. (Texas-Ohio), 1331 Seventeenth Street, Suite 601, Denver Colorado 80202, filed in Docket No. CP00-419-000 an application pursuant to Section 7(b) of the Natural Gas Act for permission and approval to abandon the operation of a 980 horsepower, skid-mounted leased compressor unit, all as more fully set forth in the application on file with the Commission and open to public inspection. This filing may be viewed on the web at http://www.ferc.fed.us/online/htm (call 202-208-2222 for assistance).

Texas-Ohio states that it is currently paying $10,547 in compressor rental costs, Texas-Ohio also states that it has no firm customers, has received no requests for service since the last quarter of 1997, and, because of new pipeline facilities constructed by another interstate pipeline company, it is highly unlikely that a need for the compressor will exist at any time in the foreseeable future. Texas-Ohio indicates that the abandonment of the compressor is the first step in the process of Texas-Ohio abandoning all of its facilities and services and ceasing to operate as a natural gas company.

Any questions regarding the application should be directed to James D. Albright, Associate General Counsel of New Century Services, Inc., at (303) 294-2753.

Any person desiring to be heard or to make any protest with reference to said application should on or before August 14, 2000, file with the Federal Energy Regulatory Commission, 888 First Street NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Texas-Ohio to appear or be represented at the hearing.

David P. Boerger,
Secretary.

[FR Doc. 00-19966 Filed 8-7-00; 8:45 am]

BILLING CODE 6717-01-M